DEPARTMENT OF EDUCATION

Applications for New Awards; Teacher and School Leader Incentive Program

AGENCY: Office of Elementary and Secondary Education, Department of Education.

ACTION: Notice.

SUMMARY: The Department of Education (Department) is issuing a notice inviting applications for fiscal year (FY) 2023 for the Teacher and School Leader Incentive Program (TSL), Assistance Listing Number 84.374A. This notice relates to the approved information collection under OMB control number 1810-0758.

DATES:

Applications Available: May 24, 2023.

Pre-Application Webinars: The Office of Elementary and Secondary Education intends to post pre-recorded informational webinars designed to provide technical assistance to interested applicants for TSL grants. These informational webinars will be available on the TSL web page shortly after this notice is published in the Federal Register at oese.ed.gov/offices/office-of-discretionary-grants-support-services/effective-educator-development-programs/teacher-and-school-leader-incentive-program/applicant-info-eligibility/. A TSL Frequently Asked Questions document will also be published on the TSL program web page as soon as it is available at https://oese.ed.gov/offices/office-of-discretionary-grants-support-services/effective-educator-development-programs/teacher-and-school-leader-incentive-program/.

Deadline for Notice of Intent to Apply: June 7, 2023.

Deadline for Transmittal of Applications: June 28, 2023.

Deadline for Intergovernmental Review: August 28, 2023.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Cynthia Hunter, U.S. Department of Education, 400 Maryland Avenue SW, Washington, DC 20202-5960. Telephone: 202-401-3584. Email: cynthia.hunter@ed.gov or TSL@ed.gov.

If you are deaf, hard of hearing, or have a speech disability and wish to access telecommunications relay services, please dial 7-1-1.

SUPPLEMENTARY INFORMATION:

Full Text of Announcement

I. Funding Opportunity Description

Purpose of Program: The purpose of TSL is to assist States, local educational agencies (LEAs), and nonprofit organizations to develop, implement, improve, or expand comprehensive performance-based compensation systems (PBCS) or human capital management systems (HCMS) for teachers, principals, or other school leaders (as defined in this notice) (especially for teachers, principals, or other school leaders in high-need schools who raise student growth and academic achievement and close the achievement gap between high- and low-performing students. In addition, a portion of TSL funds may be used to study the effectiveness, fairness, quality, consistency, and reliability of PBCS or HCMS for educators. Many of the terms used here are defined terms and can be found in the “Definitions” section of this notice.

Background: TSL is authorized under section 2212 of the Elementary and Secondary Education Act of 1965, as amended (ESEA).

The Department is committed to strengthening the education workforce through its Raise the Bar: Lead the World ¹ initiative. The Department's call to action seeks to transform P-12 education by promoting academic excellence, boldly improving learning conditions, and preparing our Nation's students for global competitiveness. Consistent with that call to action, the priorities used in this competition advance Raise the Bar's goals to boldly improve learning conditions by eliminating educator shortages, including through effective teacher retention efforts such as career advancement opportunities for teachers.

¹ https://www.ed.gov/raisethebar.

The FY 2023 TSL competition is designed to support entities in implementing, improving, or expanding their HCMS, which by definition must include a PBCS; or in implementing, improving, or expanding their PBCS. TSL is also intended to primarily serve educators in high-need schools who raise student growth and academic achievement and close the achievement gap between high- and low-performing students, although the program may also fund services for educators serving in high-need subject areas (though not necessarily in high-need schools), as determined by the LEA or by the State.

Many States and LEAs have worked to create and improve their comprehensive HCMS, and LEAs have invested in high-quality educator evaluation and support systems to improve recruitment and retention efforts, provide educators with meaningful feedback and targeted professional development, and use educator performance data to inform key school- and district-level decisions. While an increasing number of LEAs are well-equipped to make human capital decisions that both support educators and improve student outcomes, additional work is needed to ensure that these educator evaluation and support systems are fair, reliable, and credible; conducive to enhancing educator growth and advancement; likely to support improved student outcomes; and seamlessly integrated into school- and district-level human capital processes. Absolute Priority 1, which focuses on human capital management systems (HCMS) or performance-based compensation systems (PBCS) and career advancement opportunities, will support LEAs in this work.

In addition, Absolute Priority 1 requires applicants to address how they will support career advancement opportunities for educators. Teacher leadership models and activities provide experienced and effective teachers leadership opportunities that allow them to have a greater impact on their school community while remaining in the classroom and being compensated for additional responsibilities. This could include, for example, distributive leadership models which allow teachers to lead alongside their principal to facilitate positive schoolwide change; teacher-led instructional improvement efforts focused on specific areas of academic content; opportunities to shape schoolwide policies and climate, and lead professional learning communities; participation in master teacher programs, teacher mentorship programs, and job-embedded content coaching; and the implementation of advisory systems. These leadership opportunities support academic success for students while creating career ladders that support teacher retention.

Absolute Priority 2 requires applicants to concentrate TSL-funded grant project activities to support teachers, principals, or other school leaders in high-need schools. In 2021, the Department clarified and simplified the expectation that TSL-funded grant activities primarily serve high-need schools by establishing a new definition of high-need schools that modified how applicants identify high-need schools for the purposes of the TSL Program.

Through the two absolute priorities listed in this notice, the Department seeks to promote and support States and LEAs in their efforts to implement goals and objectives as well as lessons learned from close to two decades of investment and research in HCMS and PBCS. In addition to two absolute priorities, this notice includes two competitive preference priorities focused on diversifying and strengthening the educator workforce and promoting equitable access to high quality educators.

Competitive Preference Priority 1 emphasizes the importance of promoting equitable student access to educational resources and opportunities through continued professional development and enrichment opportunities that grow and retain our Nation's best educators.

It is well established that teacher effectiveness contributes greatly to student academic outcomes, and with the learning setbacks students have experienced nationwide due to the COVID-19 pandemic, there is even more urgency to ensure that students have equitable access to effective teachers, particularly for students from low-income backgrounds, students of color, English learners, and students with disabilities, who experienced more substantial learning loss.² In 2022, the National Center for Education Statistics (NCES) studied the National Assessment of Educational Progress's long-term trend data, which revealed that the average scores for 9-year-old students declined 5 points in reading and 7 points in mathematics between 2020 and 2022. While these scores represent the largest average score decline in reading since 1990, and the first ever score decline in mathematics, the downward trajectory in scores was even more dramatic for already lower-performing students.³ Since educators represent the most significant in-school factor for student outcomes, it is essential to attract, develop, and retain a well-qualified, experienced, effective, and diverse pool of highly skilled and effective teachers who are prepared to teach diverse groups of learners (e.g., through co-teaching models, dual certifications, universal design for learning), particularly in high-need schools.

² U.S. Department of Education, Office of Civil Rights, Education in a Pandemic: The Disparate Impacts of COVID-19 on America's Students. www2.ed.gov/about/offices/list/ocr/docs/20210608-impacts-of-covid19.pdf.

³ U.S. Department of Education, Institute of Education Sciences, National Center for Education Statistics, National Assessment of Educational Progress, 2020 and 2022 Long-Term Trend Reading and Mathematics Assessments. The Nation's Report Card, https://www.nationsreportcard.gov/highlights/ltt/2022/.

Research funded by the Department's Institute of Education Sciences concluded that student achievement can improve by as much as 21 percentile points when teachers participate in well-designed professional development programs.⁴ Because widespread teacher shortages have worsened in recent years as a result of the pandemic, schools must focus on reducing educator attrition rates by recruiting and retaining a high-quality, skilled workforce. This is especially true for high-need schools where, according to education scholars,⁵ teacher shortages historically have been more severe.

⁴ Yoon, K.S., Duncan, T., Lee, S.W.-Y., Scarloss, B., & Shapley, K. (2007). Reviewing the evidence on how teacher professional development affects student achievement (Issues & Answers Report, REL 2007-No. 033). Washington, DC: U.S. Department of Education, Institute of Education Sciences, National Center for Education Evaluation and Regional Assistance, Regional Educational Laboratory Southwest. Retrieved from http://ies.ed.gov/ncee/edlabs.

⁵ Garcia, E., Kraft, M.A., and Schwartz, H.L. Are we at a crisis point with the public teacher workforce? Education scholars share their perspectives. Brookings, 26 August 2022, https://www.brookings.edu/blog/brown-center-chalkboard/2022/08/26/are-we-at-a-crisis-point-with-the-public-teacher-workforce-education-scholars-share-their-perspectives/#:~:text=As%20of%20March%202022%2C%2058,anticipated%20a%20%E2%80%9Clarge%20shortage.%E2%80%9D.

Competitive Preference Priority 2 supports the critical need to increase the diversity of the educator workforce. This competitive preference priority focuses on the essential role a diverse educator workforce plays in ensuring equity in our education system and the urgency in addressing the needs of diversifying the educator pipeline, consistent with the Department's Raise the Bar: Lead the World call to action.⁶ Studies suggest that all students benefit from having teachers of color. For students of color, exposure to teachers of their race or ethnicity has a positive effect on the students' academic and social achievement, and increases attendance, the likelihood of high school graduation, and college attendance. White students also benefit academically and socially from having teachers from diverse backgrounds, who support students in gaining accurate perceptions of our society.7 8

⁶ www2.ed.gov/about/inits/ed/raise-the-bar/executive-summary.pdf.

⁷ Cherng, H.Y.S., & Halpin, P.F. (2016). The importance of minority teachers: Student perceptions of minority versus White teachers. Educational Researcher, 45(7), 407-420; Irvine, J.J. (1988). An analysis of the problem of disappearing Black educators. Elementary School Journal, 88(5), 503-514.

⁸ Figlio, David. The importance of a diverse teaching force. Brookings, 16 November 2017, https://www.brookings.edu/research/the-importance-of-a-diverse-teaching-force/. Blazar, David. (2022). How and Why Do Black Teachers Benefit Students?: An Experimental Analysis of Causal Mediation. (EdWorkingPaper: 21-501). Retrieved from Annenberg Institute at Brown University: https://doi.org/10.26300/jym0-wz02.

However, despite evidence that points to the importance of a diverse educator workforce, educator representation disparities persist. NCES data indicates that more than 50 percent of public school students are students of color, yet in 2017-18, the most recent year of available data, roughly 25 percent of teachers were teachers of color.⁹ And despite English learners representing the fastest growing public school student demographic, most States face a shortage of bilingual and multilingual teachers prepared and certified to adequately educate English learner students.¹⁰

⁹ U.S. Department of Education, Institute of Education Sciences, National Center for Education Statistics, National Assessment of Educational Progress, Race and Ethnicity of Public School Teachers and Their Students. Data Point, https://nces.ed.gov/pubs2020/2020103/index.asp?utm_content=&utm_medium=email&utm_name=&utm_source=govdelivery&utm_term.

¹⁰ See id.

Teacher workforce data from the last 30 years shows that the number of teachers of color hired by the country's schools has increased at a faster rate than the number of white teachers; however, teachers of color leave at a much higher rate than their white counterparts.¹¹ In its 2021 State of the U.S. Teacher Survey,¹² RAND Corporation researchers found that nearly 50 percent of Black teachers reported in the winter of 2021 that they would likely vacate their positions at the conclusion of the school year, compared to 23 percent of teachers overall, citing a variety of reasons such as lack of respect, workplace discrimination, lower wages, lack of adequate resources, disenfranchisement, and unrealistic job expectations.¹³ The Department is interested in strategies that support a diverse workforce through recruitment, development, and retention. As such, this competitive preference priority focuses on activities designed to strengthen educator diversity through a broader lens of equity, with an emphasis on recruitment, support, and retention. We note that, although Competitive Preference Priority 2 refers to such activities in “high-poverty” school districts, consistent with Absolute Priority 2, all projects must be focused on “high-need schools”.

¹¹ Carr, Sarah. Public Schools Are Struggling to Retain Black Teachers. These Ex-Teachers Explain Why. Time, 5 January 2022, https://time.com/6130991/black-teachers-resigning/.

¹² Steiner, Elizabeth D. and Ashley Woo, Job-Related Stress Threatens the Teacher Supply: Key Findings from the 2021 State of the U.S. Teacher Survey. Santa Monica, CA: RAND Corporation, 2021. https://www.rand.org/pubs/research_reports/RRA1108-1.html.

¹³ Carr, Sarah. Public Schools Are Struggling to Retain Black Teachers. These Ex-Teachers Explain Why. Time, 5 January 2022, https://time.com/6130991/black-teachers-resigning/.

In addition to implementing strong induction and mentoring programs, improving workplace culture by creating inclusive environments, and reducing job related stress, studies show that creating and maintaining strong relationships with organizations that prepare teachers of color is another high-yield strategy in recruiting and retaining minority educators.¹⁴ Historically Black Colleges and Universities (HBCUs), for example, have prepared African American educators and leaders and provide a strong pipeline for educators of color. Although they make up only 3 percent of the Nation's colleges and universities, for example, HBCUs prepare nearly 50 percent of the Nation's African American teachers.¹⁵ HBCUs are indispensable to producing and advancing educational opportunities for students of color, first-generation, and underrepresented students who are interested in the teaching profession.¹⁶ In many urban and rural communities, HBCUs produce high numbers of teachers who work in the local school divisions.¹⁷ Leveraging the HBCU network to recruit teachers of color is a high impact way to diversify the educator pipeline and, in turn, advance student growth and achievement.

¹⁴ See id.

¹⁵ See id.

¹⁶ Fenwick, L. (2016). Teacher preparation innovation and historically black colleges and universities (HBCUs). Teaching Works working papers. University of Michigan. http://www.teachingworks.org/images/files/TeachingWorks_Fenwick.pdf.

¹⁷ See id.

Priorities: This notice contains two absolute priorities and two competitive preference priorities. In accordance with 34 CFR 75.105(b)(2)(v), Absolute Priority 1 is from ESEA section 2212(e)(1) and (2)(F); and Absolute Priority 2 is from the TSL Notice of Final Priority and Definition, published in the Federal Register on July 9, 2021 (86 FR 36220) (TSL NFP). In accordance with 34 CFR 75.105(b)(2)(ii), Competitive Preference Priorities 1 and 2 are from the Secretary's Supplemental Priorities and Definitions for Discretionary Grants Programs, published in the Federal Register on December 10, 2021 (86 FR 70612) (Supplemental Priorities).

Absolute Priorities: For FY 2023 and any subsequent year in which we make awards from the list of unfunded applications from this competition, these priorities are absolute priorities. Under 34 CFR 75.105(c)(3), we consider only applications that meet both absolute priorities.

These priorities are:

Absolute Priority 1—Human Capital Management Systems (HCMS) or Performance Based Compensation Systems (PBCS) and Career Advancement Opportunities.

Under this priority, eligible applicants must propose a project to (1) develop, implement, improve, or expand, in collaboration with teachers, principals, other school leaders, and members of the public, a PBCS or HCMS; and (2) institute career advancement opportunities characterized by increased responsibility and pay that reward and recognize effective teachers, principals, or other school leaders in high-need schools and enable them to expand their leadership and results, such as through teacher-led professional development, mentoring, coaching, hybrid roles, administrative duties, and career ladders.

Applicants that propose to use grant funds, under ESEA section 2212(e)(2)(A), to develop or improve an evaluation and support system as part of an HCMS, in responding to this priority, must describe how such system—

(a) Reflects clear and fair measures of educator performance, based in part on demonstrated improvement in student academic achievement; and

(b) Provides educators with ongoing, differentiated, targeted, and personalized support and feedback for improvement, including professional development opportunities designed to increase effectiveness.

Absolute Priority 2—High-Need Schools.

Under this priority, eligible applicants must concentrate proposed activities on teachers, principals, or other school leaders serving in high-need schools.

In order to demonstrate that the TSL project is concentrated in high-need schools, the applicant must—

(a) Provide the requested data in paragraph (c) of this priority to demonstrate that at least the majority of the schools participating in the proposed project are high-need schools and describe how the TSL-assisted grant activities are focused on those schools;

(b) Include a list of all schools in which the proposed TSL-funded project would be implemented and indicate which schools are high-need schools; and

(c) Provide the most recently available school-level data supporting each school's designation as a high-need school.

Competitive Preference Priorities: For FY 2023 and any subsequent year in which we make awards from the list of unfunded applications from this competition, these priorities are competitive preference priorities. Under 34 CFR 75.105(c)(2)(i), we award up to 5 points to an application, depending on how well the application meets Competitive Preference Priority 1. We award up to an additional 5 points to an application depending on how well the application meets Competitive Preference Priority 2. An application may be awarded a maximum of 10 additional points under the competitive preference priorities.

These priorities are:

Competitive Preference Priority 1—Promoting Equity in Student Access to Educational Resources and Opportunities. (up to 5 points)

Under this priority, an applicant must demonstrate that the applicant proposes a project designed to promote educational equity and adequacy in resources and opportunity for underserved students—

(a) In one or more of the following educational settings:

(1) Elementary school.

(2) Middle school.

(3) High school.

(4) Career and technical education programs.

(b) That examines the sources of inequity and inadequacy and implement responses, and that may include one or more of the following:

(1) Increasing the number and proportion of experienced, fully certified, in-field, and effective educators, and educators from traditionally underrepresented backgrounds or the communities they serve, to ensure that underserved students have educators from those backgrounds and communities and are not taught at disproportionately higher rates by uncertified, out-of-field, and novice teachers compared to their peers.

(2) Improving the retention of fully certified, experienced, and effective educators in high-need schools or shortage areas.

Competitive Preference Priority 2—Supporting a Diverse Educator Workforce and Professional Growth to Strengthen Student Learning. (up to 5 points)

Projects that are designed to increase the proportion of well-prepared, diverse, and effective educators serving students, with a focus on underserved students, through building or expanding high-poverty school districts' capacity to hire, support, and retain an effective and diverse educator workforce, by developing data systems, timelines, and action plans for promoting inclusive and bias-free human resources practices that promote and support development of educator diversity.

Application Requirements: For FY 2023 and any subsequent year in which we make awards from the list of unfunded applications from this competition, the following application requirements from ESEA section 2212(c) apply.

Each eligible applicant desiring a grant under this program must submit an application that contains—

(i) A description of the PBCS or HCMS that the eligible entity proposes to develop, implement, improve, or expand through the grant;

(ii) A description of the most significant gaps or insufficiencies in student access to effective educators in high-need schools, including gaps or inequities in how effective educators are distributed across the LEA, as identified using factors such as data on school resources, staffing patterns, school environment, educator support systems, and other school-level factors;

(iii) A description and evidence of the support and commitment from educators, which may include charter school leaders, in the school (including organizations representing educators), the community, and the LEA to the activities proposed under the grant;

(iv) A description of how the eligible entity will develop and implement a fair, rigorous, valid, reliable, and objective process to evaluate educator performance under the system that is based in part on measures of student academic achievement, including the baseline performance against which evaluations of improved performance will be made;

(v) A description of the LEAs or schools to be served under the grant, including student academic achievement, demographic, and socioeconomic information;

(vi) A description of the effectiveness of educators in the LEA and the schools to be served under the grant and the extent to which the system will increase the effectiveness of educators in such schools;

(vii) A description of how the eligible entity will use grant funds under section 2212 of the ESEA in each year of the grant, including a timeline for implementation of such activities;

(viii) A description of how the eligible entity will continue the activities assisted under the grant after the grant period ends;

(ix) A description of the State, local, or other public or private funds that will be used to supplement the grant, including funds under Title II, part A of the ESEA, and sustain the activities assisted under the grant after the end of the grant period;

(x) A description of—

(A) The rationale for the project;

(B) How the proposed activities are evidence-based (as defined in this notice); and

(C) If applicable, the prior experience of the eligible entity in developing and implementing such activities.

Definitions: The definitions of “human capital management system” and “performance-based compensation system” are from section 2211 of the ESEA. The definitions of “evidence-based” and “school leader” are from section 8101 of the ESEA. The definitions of “demonstrates a rationale,” “experimental study,” “logic model,” “moderate evidence,” “project component,” “promising evidence,” “quasi-experimental design study,” “relevant outcome,” “strong evidence,” and “What Works Clearinghouse Handbooks (WWC Handbooks)” are from 34 CFR 77.1. The definition of “high-need school” is from the TSL NFP. The definitions of “children or students with disabilities,” “disconnected youth,” “educator,” “English learner,” and “underserved student” are from the Supplemental Priorities. These definitions apply to the FY 2023 grant competition and any subsequent year in which we make awards from the list of unfunded applications from this competition.

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(202)(B)).

Demonstrates a rationale means a key project component included in the project's logic model is informed by research or evaluation findings that suggest the project component is likely to improve relevant outcomes.

Disconnected youth means an individual, between the ages 14 and 24, who may be from a low-income background, experiences homelessness, is in foster care, is involved in the justice system, or is not working or not enrolled in (or at risk of dropping out of) an educational institution.

Educator means an individual who is an early learning educator, teacher, principal or other school leader, specialized instructional support personnel (e.g., school psychologist, counselor, school social worker, early intervention service personnel), paraprofessional, or faculty.

English learner means an individual who is an English learner as defined in section 8101(20) of the ESEA or an individual who is an English language learner as defined in section 203(7) of the Workforce Innovation and Opportunity Act.

Evidence-based, when used with respect to a State, LEA, or school activity, means an activity, strategy, or intervention that—

(i) Demonstrates a statistically significant effect on improving student outcomes or other relevant outcomes based on—

(A) Strong evidence from at least one well-designed and well-implemented experimental study;

(B) Moderate evidence from at least one well-designed and well-implemented quasi-experimental study; or

(C) Promising evidence from at least one well-designed and well-implemented correlational study with statistical controls for selection bias; or

(ii)(A) Demonstrates a rationale based on high-quality research findings or positive evaluation that such activity, strategy, or intervention is likely to improve student outcomes or other relevant outcomes; and

(B) Includes ongoing efforts to examine the effects of such activity, strategy, or intervention.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

High-need school means a school with 50 percent or more of its enrollment from low-income families as calculated using—

(a) The number of children eligible for a free or reduced-price lunch under the National School Lunch Program (NSLP) (or, if an LEA does not participate in the NSLP, comparable data from another source such as a survey);

(b) If an LEA has one or more schools that participate in the Community Eligibility Provision (CEP) of the NSLP, for any of its schools (i.e., CEP and non-CEP schools), the method in paragraph (a) of this definition or an alternative method approved by the Department; and

(c) For middle and high schools, data from feeder schools that can establish that the middle or high school is a high-need school under paragraph (a) or (b) of this definition.

Human Capital Management System (HCMS) means a system—

(i) By which an LEA makes and implements human capital decisions, such as decisions on preparation, recruitment, hiring, placement, retention, dismissal, compensation, professional development, tenure, and promotion; and

(ii) That includes a performance-based compensation system.

Logic model (also referred to as a theory of action) means a framework that identifies key project components of the proposed project (i.e., the active “ingredients” that are hypothesized to be critical to achieving the relevant outcomes) and describes the theoretical and operational relationships among the key project components and relevant outcomes.

Moderate evidence means that there is evidence of effectiveness of a key project component in improving a relevant outcome for a sample that overlaps with the populations or settings proposed to receive that component, based on a relevant finding from one of the following:

(i) A practice guide prepared by the WWC using version 2.1, 3.0, 4.0, or 4.1 of the WWC Handbooks reporting a “strong evidence base” or “moderate evidence base” for the corresponding practice guide recommendation;

(ii) An intervention report prepared by the WWC using version 2.1, 3.0, 4.0, or 4.1 of the WWC Handbooks reporting a “positive effect” or “potentially positive effect” on a relevant outcome based on a “medium to large” extent of evidence, with no reporting of a “negative effect” or “potentially negative effect” on a relevant outcome; or

(iii) A single experimental study or quasi-experimental design study reviewed and reported by the WWC using version 2.1, 3.0, 4.0, or 4.1 of the WWC Handbooks, or otherwise assessed by the Department using version 4.1 of the WWC Handbooks, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy the requirement in this paragraph (iii)(D).

Performance-Based Compensation System (PBCS) means a system of compensation for teachers, principals, or other school leaders—

(i) That differentiates levels of compensation based in part on measurable increases in student academic achievement; and

(ii) Which may include—

(A) Differentiated levels of compensation, which may include bonus pay, on the basis of the employment responsibilities and success of effective teachers, principals, or other school leaders in hard-to-staff schools or high-need subject areas; and

(B) Recognition of the skills and knowledge of teachers, principals, or other school leaders as demonstrated through—

(I) Successful fulfillment of additional responsibilities or job functions, such as teacher leadership roles; and

(II) Evidence of professional achievement and mastery of content knowledge and superior teaching and leadership skills.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

School leader means a principal, assistant principal, or other individual who is—

(i) An employee or officer of an elementary school or secondary school, LEA, or other entity operating an elementary school or secondary school; and

(ii) Responsible for the daily instructional leadership and managerial operations in the elementary school or secondary school building.

Strong evidence means that there is evidence of the effectiveness of a key project component in improving a relevant outcome for a sample that overlaps with the populations and settings proposed to receive that component, based on a relevant finding from one of the following:

(i) A practice guide prepared by the WWC using version 2.1, 3.0, 4.0, or 4.1 of the WWC Handbooks reporting a “strong evidence base” for the corresponding practice guide recommendation;

(ii) An intervention report prepared by the WWC using version 2.1, 3.0, 4.0, or 4.1 of the WWC Handbooks reporting a “positive effect” on a relevant outcome based on a “medium to large” extent of evidence, with no reporting of a “negative effect” or “potentially negative effect” on a relevant outcome; or

(iii) A single experimental study reviewed and reported by the WWC using version 2.1, 3.0, 4.0, or 4.1 of the WWC Handbooks, or otherwise assessed by the Department using version 4.1 of the WWC Handbooks, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy the requirement in this paragraph (iii)(D).

Underserved student means a student (which may include children in early learning environments, students in K-12 programs, students in career and technical education, as appropriate) in one or more of the following subgroups:

(a) A student who is living in poverty or is served by schools with high concentrations of students living in poverty.

(b) A student of color.

(c) A student who is a member of a federally recognized Indian Tribe.

(d) An English learner.

(e) A child or student with a disability.

(f) A disconnected youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student who is the first in their family to attend postsecondary education.

(p) A student performing significantly below grade level.

What Works Clearinghouse Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The What Works Clearinghouse Procedures and Standards Handbook (Version 4.1), as well as the more recent What Works Clearinghouse Handbooks released in August 2022 (Version 5.0), are available at https://ies.ed.gov/ncee/wwc/Handbooks.

Program Authority: Sections 2211-2213 of the ESEA.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Non-procurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The TSL NFP. (e) The Supplemental Priorities.

Note: The regulations in 34 CFR part 86 apply to IHEs only.

Type of Award: Discretionary grants.

Estimated Available Funds: $95,452,236.

Contingent upon the availability of funds and the quality of applications, we may make additional awards in subsequent years from the list of unfunded applications from this competition.

Estimated Range of Awards: $500,000 to $8.5 million.

Note: The Department estimates a wide range of awards, given the potentially large differences in the scope of funded projects, including the size and number of participating LEAs.

Estimated Average Size of Awards: $4,300,000.

Estimated Number of Awards: 20-25.

Note: The Department is not bound by any estimates in this notice.

Project Period: Up to 36 months.

III. Eligibility Information

1. Eligible Applicants:

(a) An LEA, including a charter school that is an LEA, or a consortium of LEAs;

(b) A State educational agency (SEA) or other State agency designated by the Chief Executive of a State to participate;

(c) The Bureau of Indian Education; or

(d) A partnership consisting of—

(i) One or more agencies described in paragraph (a), (b), or (c); and

(ii) At least one nonprofit or for-profit entity.

Note: For the purpose of this program, the Secretary considers all schools funded by the Department of Interior's Bureau of Indian Education to be LEAs under section 8101(30)(C) of the ESEA.

Note: Under section 2212(b)(3) of the ESEA, an LEA may receive (whether individually or as part of a consortium or partnership) a grant under the TSL program only twice.

2. a. Cost Sharing or Matching: Under section 2212(f) of the ESEA, each grant recipient must provide from non-Federal sources an amount equal to 50 percent of the amount of the grant (which may be provided in cash or in kind), to carry out the activities supported by the grant. Applicants and grantees should budget relative to each annual award of TSL grant funds. Applicants are strongly encouraged to take this requirement into account when requesting Federal funds and limit their requests appropriately. Applicants should verify that their budgets reflect both the requested Federal award amount and the matching contribution with appropriate cost allocations. TSL: (Cost Share or Matching Formula: Total Project Cost multiplied by .67 equals Federal Award Amount).

b. Supplement-Not-Supplant: This program involves supplement-not-supplant funding requirements. In accordance with section 2212(g) of the ESEA, funds made available under this program must be used to supplement, and not supplant, other Federal or State funds that would otherwise be expended to carry out activities under this program. The Secretary considers all schools funded by the Department of Interior's Bureau of Indian Education to be LEAs, and the funds that these schools receive from the Department of Interior's annual appropriation to be neither Federal nor State funds. Further, the prohibition against supplanting also means that grantees seeking to charge indirect costs to TSL funds will need to use their negotiated restricted indirect cost rates. See 34 CFR 75.563 for more information.

c. Indirect Cost Rate Information: This program uses a restricted indirect cost rate. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants to directly carry out project activities described in its application to the following types of entities: LEAs, SEAs, nonprofit organizations or for-profit organizations. The grantee may award subgrants to entities it has identified in an approved application.

4. Renewal: Under section 2212(b)(2) of the ESEA, the Secretary may renew a grant awarded under this section for up to 2 additional years if the grantee demonstrates to the Secretary that the grantee is effectively using funds. Such renewal may include allowing the grantee to scale up or replicate the successful program.

Note: During the third year of the project period for grants awarded under this competition, if the Department exercises the option to offer an opportunity for renewals, the Department will provide grantees with information on the renewal process. This additional funding is intended not only to support continuation of approved project activities, but also to encourage scaling, replication, and sustainability efforts and strategies. In making decisions on whether to award a 2-year renewal award, we intend to review performance data submitted in regularly required reporting, as well as potentially request narrative information to be assessed using selection criteria from 34 CFR 75.210.

IV. Application and Submission Information

1. Application Submission Instructions: Applicants are required to follow the Common Instructions for Applicants to Department of Education Discretionary Grant Programs, published in the Federal Register on December 7, 2022 (87 FR 75045), and available at https://www.federalregister.gov/documents/2022/12/07/2022-26554/common-instructions-for-applicants-to-department-of-education-discretionary-grant-programs, which contain requirements and information on how to submit an application. Please note that these Common Instructions supersede the version published on December 27, 2021.

2. Submission of Proprietary Information: Given the types of projects that may be proposed in applications for TSL, an application may include business information that the applicant considers proprietary. In 34 CFR 5.11, we define “business information” and describe the process we use in determining whether any of that information is proprietary and, thus, protected from disclosure under Exemption 4 of the Freedom Act (5 U.S.C. 552, as amended). Because we plan to make successful applications available to the public, you may wish to request confidentiality of business information. Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this program.

4. Funding Restrictions: We reference regulations outlining funding restrictions in the Applicable Regulations section of this notice.

5. Recommended Page Limit: The application narrative is where you, the applicant, address the selection criteria that reviewers use to evaluate your application. We recommend that you (1) limit the application narrative to no more than 40 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Calibri, or Arial.

The recommended page limit does not apply to the cover sheet; the budget section, including the narrative budget justification; the assurances and certifications; or the one-page abstract, the resumes, the bibliography, or the letters of support. However, the recommended page limit does apply to all of the application narrative.

6. Notice of Intent to Apply: The Department will be able to review grant applications more efficiently if we know the approximate number of applicants who intend to apply. Therefore, we strongly encourage each potential applicant to notify us of the applicant's intent to submit an application. To do so, please email TSL@ed.gov with the subject line “Intent to Apply,” and include the applicant's name and contact person's name and email address by July 10, 2023. Applicants that do not submit a notice of intent to apply may still apply for funding; applicants that do submit a notice of intent to apply are not bound to apply or bound by the information provided.

V. Application Review Information

1. Selection Criteria: The following selection criteria for this competition are from 34 CFR 75.210. The maximum score for the following selection criteria is 100 points. The maximum score for each criterion is included in parentheses following its title.

(a) Need for project (20 points)

(1) The Secretary considers the need for the proposed project.

(2) In determining evidence of the need for the proposed project, the Secretary considers the following factors:

(i) The extent to which specific gaps or weaknesses in services, infrastructure, or opportunities have been identified and will be addressed by the proposed project, including the nature and magnitude of those gaps or weaknesses.

(ii) The extent to which the proposed project will integrate with or build on similar or related efforts to improve relevant outcomes (as defined in this notice) using existing funding streams from other programs or policies supported by community, State, and Federal resources.

(iii) The extent to which the proposed project is part of a comprehensive effort to improve teaching and learning and support rigorous academic standards for students.

(iv) The extent to which the design of the proposed project is appropriate to, and will successfully address, the needs of the target population or other identified needs.

(b) Quality of the project design (25 points)

(1) The Secretary considers the quality of the design of the proposed project.

(2) In determining the quality of the design of the proposed project, the Secretary considers the following factors:

(i) The extent to which the proposed project demonstrates a rationale (as defined in this notice).

(ii) The extent to which the design of the proposed project includes a thorough, high-quality review of the relevant literature, a high-quality plan for project implementation, and the use of appropriate methodological tools to ensure successful achievement of project objectives.

(iii) The extent to which the methods of evaluation will provide performance feedback and permit periodic assessment of progress toward achieving intended outcomes.

(c) Quality of the management plan (25 points)

(1) The Secretary considers the quality of the management plan for the proposed project.

(2) In determining the quality of the management plan for the proposed project, the Secretary considers the adequacy of the management plan to achieve the objectives of the proposed project on time and within budget, including clearly defined responsibilities, timelines, and milestones for accomplishing project tasks.

(d) Adequacy of resources (30 points)

(1) The Secretary considers the adequacy of resources for the proposed project.

(2) In determining the adequacy of resources for the proposed project, the Secretary considers the following factors:

(i) The likelihood that the proposed project will result in system change or improvement.

(ii) The extent to which the proposed project is likely to build local capacity to provide, improve, or expand services that address the needs of the target population.

(iii) The extent to which the applicant demonstrates that it has the resources to operate the project beyond the length of the grant, including a multi-year financial and operating model and accompanying plan; the demonstrated commitment of any partners; evidence of broad support from stakeholders (e.g., SEAs, teachers' unions) critical to the project's long-term success; or more than one of these types of evidence.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions, and under 2 CFR 3474.10 in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting:

(a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

Note: In addition, under 34 CFR 75.591, all TSL grantees must cooperate in any evaluation of the program conducted by the Department.

5. Performance Measures: The goal of TSL is to support educators, particularly those in high-need schools, to raise student academic achievement and close the achievement gap between high- and low-performing students. For the purposes of Department reporting under 34 CFR 75.110, we have established a set of performance measures: (a) the percentage of teachers and school leaders within the TSL-assisted schools rated effective or higher by their districts' evaluation and support systems; (b) the percentage of teachers and school leaders across the participating district(s) that show improvements, over the previous year, on the student growth component of their evaluation rating; (c) the percentage of teachers and school leaders within the TSL-assisted schools that show improvements, over the previous year, on the student growth component of their evaluation rating; (d) the percentage of teachers and school leaders in TSL-assisted schools for whom evaluation ratings were used to inform decisions regarding recruitment, hiring, placement, retention, dismissal, professional development, tenure, promotion, or all of the above; (e) the percentage of teachers and school leaders within the participating district(s) who earned performance-based compensation based on their individual evaluation ratings; (f) the percentage of teachers and school leaders in TSL-funded schools who earned performance-based compensation based on their individual evaluation ratings; (g) the number of teachers receiving performance compensation disaggregated by race, gender, and where available, disability status; (h) the number of school leaders receiving performance compensation disaggregated by race, gender, and where available, disability status; and (i) the number of teachers receiving performance compensation for leadership responsibilities disaggregated by race, gender, and where available, disability status.

6. Continuation Awards: In making a continuation award under 34 CFR 75.253, the Secretary considers, among other things, whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

James F. Lane,
Principal Deputy Assistant Secretary, Delegated the Authority to Perform the Functions and Duties of the Assistant Secretary, Office of Elementary and Secondary Education.

[FR Doc. 2023-11083 Filed 5-23-23; 8:45 am]

BILLING CODE 4000-01-P